DEPARTMENT OF EDUCATION

Privacy Act of 1974; System of Records

AGENCY: Institute of Education Sciences, Department of Education.

ACTION: Notice of a new system of records.

SUMMARY: In accordance with the Privacy Act of 1974, as amended (Privacy Act), the Department of Education (Department) publishes this notice of a new system of records entitled “IES Research Training Program Surveys: Predoctoral Survey, Postdoctoral Survey, Special Education Postdoctoral Survey” (18-13-25).

The Institute of Education Sciences (IES) Research Training Program Surveys: Predoctoral Survey, Postdoctoral Survey, Special Education Postdoctoral Survey system will be used: (1) To assess the satisfaction of fellows who have participated in the Education Research Training programs funded by the IES' National Center for Education Research (IES/NCER) and National Center for Special Education Research (IES/NCSER) in order to determine whether there are program areas that need improvement; and (2) to track the fellows' professional accomplishments both during and following their fellowship years in order to assess how well the individual programs are fulfilling the mission of the IES training programs, which is to increase the supply of young researchers trained and ready to do rigorous research in education. The Pre- and Postdoctoral Fellowship Customer Satisfaction Survey system will contain records containing information such as IES-funded fellows' names, e-mail addresses, and citizenship status.

DATES: The Department seeks comment on the new system of records described in this notice, in accordance with the requirements of the Privacy Act. We must receive your comments about the proposed routine uses for the system of records referenced in this notice on or before November 23, 2011.

The Department filed a report describing the new system of records covered by this notice with the Chair of the Senate Committee on Homeland Security and Governmental Affairs, the Chair of the House Committee on Oversight and Government Reform, and the Administrator of the Office of Information and Regulatory Affairs, Office of Management and Budget (OMB) on October 4, 2011. This system of records will become effective at the later date of—(1) The expiration of the 40-day period for OMB review on November 14, 2011; or (2) November 23, 2011, unless the system of records needs to be changed as a result of public comment or OMB review.

ADDRESSES: Address all comments about this new system of records to Dr. Meredith Larson, Associate Research Scientist, National Center for Education Research, Institute of Education Sciences, U.S. Department of Education, 555 New Jersey Avenue, NW., Room 618, Washington, DC 20208-5500. If you prefer to send comments through the Internet, use the following address: comments@ed.gov.

You must include the term “IES Research Training Program Surveys” in the subject line of your electronic message.

During and after the comment period, you may inspect all comments about this notice at the National Center for Education Research, Institute of Education Sciences, Department of Education, 6th Floor, 555 New Jersey Avenue, NW., Washington, DC, between the hours of 8:30 a.m. and 5:00 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Dr. Meredith Larson. Telephone number: (202) 219-2025. If you use a telecommunications device for the deaf (TDD), call the Federal Relay Service (FRS), toll free, at 1-800-877-8339.

Individuals with disabilities may obtain this document in an alternative format (e.g., braille, large print, audiotape, or computer diskette) on request to the contact person listed in the preceding paragraph.

SUPPLEMENTARY INFORMATION:

Introduction

The Privacy Act (5 U.S.C. 552a(e)(4)) requires the Department to publish in the Federal Register this notice of a new system of records maintained by the Department. The Department's regulations implementing the Privacy Act are contained in part 5b of title 34 of the Code of Federal Regulations (CFR).

The Privacy Act applies to a record about an individual that is maintained in a system of records from which individually identifying information is retrieved by a unique identifier associated with each individual, such as a name or Social Security number. The information about each individual is called a “record,” and the system, whether manual or computer-based, is called a “system of records.”

The Privacy Act requires each agency to publish a system of records notice in the Federal Register and to submit, whenever the agency publishes a new system of records or makes a significant change to an established system of records, a report to the Administrator of the Office of Information and Regulatory Affairs, OMB. Each agency is also required to send copies of the report to the Chair of the House Committee on Oversight and Government Reform and to the Chair of the Senate Committee on Homeland Security and Governmental Affairs. These reports are inc1uded to permit an evaluation of the probable effect of the proposal on the privacy rights of individuals.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: October 18, 2011.
John Q. Easton,
Director, Institute of Education Sciences.

For the reasons discussed in the preamble, the Director of the Institute of Education Sciences, U.S. Department of Education publishes a notice of a new system of records, to read as follows:

System Number:

18-13-25

System Name:

IES Research Training Program Surveys: Predoctoral Survey, Postdoctoral Survey, Special Education Postdoctoral Survey.

Security Classification:

None.

System Locations:

National Center for Education Research, Program Officer Staff, Institute of Education Sciences (IES), U.S. Department of Education (Department), 555 New Jersey Avenue, NW., Suite 618, Washington, DC 20208-5530.

Categories of Individuals Covered by the System:

The system contains records on pre- and postdoctoral fellows who have been funded through the IES Pre- and Postdoctoral Education Research Training Grants and the IES Postdoctoral Special Education Research Training Grants.

Categories of Records in the System:

The system contains records regarding fellows': (1) Names; (2) e-mail addresses; (3) personal characteristics, such as gender, race/ethnicity, and citizenship status; (4) information on the training program attended including the average GRE scores of program participants and fellows per program; (5) responses to survey items regarding the quality of the training program they attended; (6) academic information including past field of study, Ph.D. completion and year of Ph.D., completion of fellowship program, research conducted during and after attending the training program including the number and type of publications and presentations made; and (7) information on positions held and type of research done after completing the training program including plans to or submission of a grant proposal.

Authority for Maintenance of the System:

The evaluation is authorized under sections 131 through 134 and section 189 of the Education Sciences Reform Act of 2002 (ESRA) (20 U.S.C. 9531-34 and 9579).

Purpose(s):

The information contained in the records maintained in this system is used for the following purposes: (1) To assess the satisfaction of the fellows with their IES training programs in order to determine whether there are program areas that need improvement; and (2) to track the fellows' professional accomplishments both during and following their fellowship years in order to assess how well the individual programs are fulfilling the mission of the IES training programs, which is to increase the supply of young researchers trained and ready to do rigorous research in education.

Routine Uses of Records Maintained in the System, Including Categories of Users and the Purposes of Such Uses:

The Department may disclose information contained in a record in this system of records without the consent of the individual if the disclosure is compatible with the purposes for which the record was collected. The Department may make these disclosures on a case-by-case basis, or, if the Department has complied with the computer matching requirements of the Computer Matching and Privacy Protection Act of 1988, as amended, under a computer matching agreement. Any disclosure of individually identifiable information from a record in this system must also comply with the requirements of section 183 of the ESRA (20 U.S.C. 9573) providing for confidentiality standards that apply to all collections, reporting, and publication of data by IES.

Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

Disclosure to Consumer Reporting Agencies:

None.

Policies and Practices for Storing, Retrieving, Accessing, Retaining, and Disposing of Records in the System:

Storage:

Records are maintained in a database on the Department's secure servers. No paper records will be kept as part of this system.

Retrievability:

Records are retrieved by the fellows' names.

Safeguards:

Access to the records is limited to authorized personnel only. All physical access to the Department's site where this system of records is maintained, is controlled and monitored by security personnel who check each individual entering the buildings for his or her employee or visitor badge.

The computer system employed by the Department offers a high degree of resistance to tampering and circumvention. This security system limits data access to Department and contract staff on a “need-to-know” basis, and controls an individual user's ability to access and alter records within the system. All users of this system of records are given a unique user identification. The Department's Information Security Privacy Policy requires the enforcement of a complex password policy. In addition, users are required to change their password at least every 60 to 90 days in accordance with the Department's information technology standards.

Retention and Disposal:

The records associated with predoctoral and postdoctoral fellows' progress will be maintained as long as they are professionally active in education research. Records will be maintained and disposed of in accordance with the Department's Records Disposition Schedules. These records are currently unscheduled. A records retention schedule will be developed and submitted to the National Archives and Records Administration (NARA) for approval. No records will be destroyed until a NARA-approved records retention schedule is in place.

System Manager(s) and Address:

Dr. Meredith Larson is the Program Officer for the IES Research Training Program Surveys, and her address is Institute of Education Sciences, Department of Education, 555 New Jersey Avenue, NW., Suite 618, Washington, DC 20208-5530.

Notification Procedure:

If you wish to determine whether a record exists regarding you in the system of records, contact the system manager. Your request must meet the requirements of regulations in 34 CFR 5b.5, including proof of identity.

Record Access Procedure:

If you wish to gain access to your record in the system of records, contact the system manager. Your request must meet the requirements of regulations in 34 CFR 5b.5, including proof of identity.

Contesting Record Procedure:

If you wish to contest the content of a record regarding you in the system of records, contact the system manager. Your request must meet the requirements of the regulations in 34 CFR 5b.7, including proof of identity.

Record Source Categories:

Information maintained in this system of records is obtained from both the fellows and their training programs. Fellows provide information on their individual characteristics, e-mail addresses, views on the quality of the training program, and information on their dissertation, papers, positions, and follow-on research. The training programs provide information on the programs themselves and the fellows' status within the programs, initial student e-mail addresses at the university (students then provide their preferred e-mail addresses), and information on student dissertations and paper.

Exemptions Claimed for This System:

None.

[FR Doc. 2011-27337 Filed 10-21-11; 8:45 am]

BILLING CODE 4000-01-P